DEPARTMENT OF ENERGY

Federal Energy Regulatory Commission

[Docket No. RP02-99-011]

Transcontinental Gas Pipe Line Corporation; Notice of Compliance Filing

October 6, 2005.

Take notice that on September 29, 2005, Transcontinental Gas Pipe Line Corporation (Transco) tendered for filing as part of its FERC Gas Tariff, Third Revised Volume No. 1, the following tariff sheets, to become effective November 1, 2005:

Tenth Revised Sheet No. 2

Tenth Revised Sheet No. 33

Fourth Revised Sheet No. 169

Second Revised Sheet No. 169A

Fourth Revised Sheet No. 445

First Revised Sheet No. 446

First Revised Sheet No. 447

Second Revised Sheet No. 448

Second Revised Sheet No. 449

Transco states that the purpose of the instant filing is to reflect the removal of the North Padre Island gathering (NPI-G) rate, rate schedule and form of service agreement from Transco's Third Revised Volume No. 1 tariff pursuant to Ordering Paragraph (B) of the Commission's Order on Remand issued February 15, 2005 in Docket No. RP02-99-009.

Transco states that copies of the filing are being mailed to affected customers and interested state commissions.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-5664 Filed 10-14-05; 8:45 am]

BILLING CODE 6717-01-P